DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce (the Department) has received requests to conduct administrative reviews of various antidumping and countervailing duty orders and findings with November anniversary dates. In accordance with the Department's regulations, we are initiating those administrative reviews. The Department also received a request to revoke one antidumping duty order in part.

EFFECTIVE DATE: December 22, 2005.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2004), for administrative reviews of various antidumping and countervailing duty orders and findings with November anniversary dates. The Department also received a timely request to revoke in part the antidumping duty order on Certain Hot-Rolled Carbon Steel Flat Products from Romania.

Initiation of Reviews:

In accordance with section 19 CFR 351.221(c)(1)(i), we are initiating administrative reviews of the following antidumping and countervailing duty orders and findings. We intend to issue the final results of these reviews not later than November 30, 2006.

Antidumping Duty Proceedings | Period to be Reviewed
MEXICO: Carbon and Certain Alloy Steel Wire Rod
A-201-803 | 10/1/04 - 9/30/05
Siderurgica Lazaro Cardenas las Truchas S.A. (SICARTSA)¹
MEXICO: Circular Welded Non-Alloy Steel Pipe and Tube
A-201-805 | 11/1/04 - 10/31/05
Hylsa, S.A. de C.V.
Mueller Comercial de Mexico, S. de R.L. de C.V.
Niples Del Norte, S.A. de C.V.
Productos Laminados de Monterrey, S.A. de C.V.
NETHERLANDS: Certain Hot-Rolled Carbon Steel Flat Products
A-421-807 | 11/1/04 - 10/31/05
Corus Staal B.V.
ROMANIA: Certain Hot-Rolled Carbon Steel Flat Products
A-485-806 | 11/1/04 - 10/31/05
Mittal Steel Galati S.A. (formerly known as S.C. Ispat Sidex S.A.,
including Sidex O.O. Trading S.A.)
THAILAND: Certain Hot-Rolled Carbon Steel Flat Products
A-549-817 | 11/1/04 - 10/31/05
Nakornthai Strip Mill Public Company Ltd.
Sahaviriya Steel Industries Public Co., Ltd.
G Steel Public Co., Ltd.
THE PEOPLE'S REPUBLIC OF CHINA: Certain Cut-to-Length Carbon Steel Plate²
A-570-849 | 11/1/04 - 10/31/05
Angang New Steel Co, Ltd.
Angang Group Hong Kong Co., Limited
China Metallurgical Import & Export Liaoning Company
THE PEOPLE'S REPUBLIC OF CHINA: Certain Hot-Rolled Carbon Steel Flat Products³
A-570-865 | 11/1/04 - 10/31/05
Angang Group International Trade Corporation
New Iron & Steel Co., Ltd.
Angang Group Hong Kong Co., Ltd
Shanghai Baosteel Group Corporation
Baoshan Iron and Steel Co., Ltd.
Baosteel Group International Trade Corporation
THE PEOPLE'S REPUBLIC OF CHINA: Fresh Garlic⁴
A-570-831 | 11/1/04 - 10/31/05
Anqiu Friend Food Co., Ltd.
Clipper Manufacturing Ltd.
Jinxiang Dong Yun Freezing Storage Co., Ltd.
Taian Fook Huat Tong Kee Foodstuffs Co., Ltd.
Heze Ever-Best International Trade Co., Ltd. (f/k/a Shandong Heze
International Trade and Developing Company)
H&T Trading Company
Huaiyang Huamei Foodstuff Co., Ltd.
Huaiyang Hongda Dehydrated Vegetable Company
Jinxiang Shanyang Freezing Storage Co., Ltd.
Jinxiang Hongyu Freezing and Storing Co., Ltd.
Jinxiang Tianshan Foodstuff Co., Ltd.
Jinan Yipin Corporation, Ltd.
Jining Yun Feng Agriculture Products Co., Ltd.
Linshu Dading Private Agricultural Products Co., Ltd.
Linyi Sanshan Import & Export Trading Co., Ltd.
Pizhou Guangda Import and Export Co., Ltd.
Qingdao Saturn International Trade Co., Ltd.
Qufu Dongbao Import & Export Trade Co., Ltd.
Shandong Chengshun Farm Produce Trading Co., Ltd.
Shandong Dongyue Produce Co., Ltd.
Shandong Jining Jinshan Textile Co., Ltd.
Shanghai Ever Rich Trade Company
Shanghai LJ International Trading Co., Ltd.
Shenzhen Fanhui Import & Export Co., Ltd.
Sunny Import & Export Co., Ltd.
Taiyan Ziyang Food Co., Ltd.
Tancheng County Dexing Foods Co., Ltd.
Weifang Shennong Foodstuff Co., Ltd.
Xi'an XiongLi vFoodstuff Co., Ltd.
Jining Trans-High Trading Co., Ltd.
Xiangcheng Yisheng Foodstuffs Co.
XuZhou Simple Gasrlic Industry Co., Ltd.
Zhangqui Qingyuan Vegetable Co., Ltd.
Zhengzhou Harmoni Spice Co., Ltd.
Countervailing Duty Proceedings
None.
Suspension Agreements
UKRAINE: Certain Cut-to-Length Carbon Steel Plate
A-823-808 | 11/1/04 - 10/31/05
OJSC Alchevsk Iron and Steel Works
Dnepropetrovsk Iron and Steel Works
OPSC Dneprovsky Iron and Steel Integrated Works (named after
F.E. Dzhershinsky (OPSC DMKD))
Azovstal Iron & Steel Works
JSC Ilyich Iron & Steel Works, Mariupol
¹ Company inadvertently omitted from initiation notice that published December 1, 2005 (70 FR 72107)
² If one of the above-named companies does not qualify for a separate rate, all other exporters of certain cut-to-length carbon steel plate from the People's Republic of China who have not qualified for a separate rate are deemed to be covered by this review as part of the single PRC entity of which the named exporters are a part
³ If one of the above-named companies does not qualify for a separate rate, all other exporters of certain hot-rolled carbon steel flat products from the People's Republic of China who have not qualified for a separate rate are deemed to be covered by this review as part of the single PRC entity of which the named exporters are a part
⁴ If one of the above-named companies does not qualify for a separate rate, all other exporters of fresh garlic from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: December 16, 2005.
Thomas F. Futtner,
Acting Office Director,AD/CVD Operations Office 4 for Import Administration.

[FR Doc. E5-7712 Filed 12-21-05; 8:45 am]

BILLING CODE 3510-DS-S